DEPARTMENT OF TRANSPORTATION

Federal Motor Carrier Safety Administration

49 CFR Part 382

[Docket No. FMCSA-2011-0031]

RIN 2126-AB18

Commercial Driver's License Drug and Alcohol Clearinghouse

AGENCY: Federal Motor Carrier Safety Administration (FMCSA), DOT.

ACTION: Proposed rule; correction.

SUMMARY: This document corrects the preamble to a notice of proposed rulemaking (NPRM) that published in the Federal Register on February 20, 2014. This NPRM would establish the Commercial Driver's License Drug and Alcohol Clearinghouse, a database under the Agency's administration that will contain controlled substances and alcohol test result information for the holders of commercial driver's licenses.

DATES: Effective March 6, 2014.

ADDRESSES: You may submit comments, identified by docket number FMCSA-2011-0031 or RIN 2126-AB18, by any of the following methods:

• Federal eRulemaking Portal: http://www.regulations.gov.

• Fax: 1-202-493-2251.

• Mail: Docket Management Facility (M-30), U.S. Department of Transportation, West Building Ground Floor, Room W12-140, 1200 New Jersey Avenue SE., Washington, DC 20590-0001.

• Hand delivery: Same as mail address above, between 9 a.m. and 5 p.m. ET, Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: Mr. Juan Moya, (202) 366-4844; or by email at fmcsadrugandalcohol@dot.gov.

SUPPLEMENTARY INFORMATION:

Correction

In the NPRM, (79 FR 9703), beginning on page 9703 in the Federal Register issue of February 20, 2014, make the following corrections: on page 9703 in the 2nd column in the rule title section, replace the docket number to read “FMCSA-2011-0031” and in the 3rd column under the ADDRESSES section replace the docket number to read “FMCSA-2011-0031.” On page 9704 in the 1st column under the Submitting Comments section replace the docket number to read “FMCSA-2011-0031” and in the 2nd column under the Viewing Comments and Documents section replace the docket number to read “FMCSA-2011-0031.”

Dated: February 26, 2014.
Larry W. Minor,
Associate Administrator for Policy.

[FR Doc. 2014-04827 Filed 3-5-14; 8:45 am]

BILLING CODE 4910-EX-P